DEPARTMENT OF COMMERCE

International Trade Administration

[A-570-846]

Brake Rotors From the People's Republic of China: Initiation of New Shipper Antidumping Duty Review

AGENCY: Import Administration, International Trade Administration, Department of Commerce.

SUMMARY: The Department of Commerce received a request on March 23, 2005, to conduct a new shipper review of the antidumping duty order on brake rotors from the People's Republic of China (“PRC”). In accordance with 19 CFR 351.214(d), we are initiating a new shipper review for the company that requested such a review: Shanxi Zhongding Auto Parts Co., Ltd. (“Shanxi Zhongding”), which is a producer and exporter of brake rotors from the PRC.

EFFECTIVE DATE: May 27, 2005.

FOR FURTHER INFORMATION CONTACT: Edward Jacobson or Brian Smith, AD/CVD Operations, Office 9, Import Administration, International Trade Administration, U.S. Department of Commerce, 14th Street and Constitution Avenue, NW., Washington, DC 20230; telephone (202) 482-5460 or (202) 482-1766, respectively.

SUPPLEMENTARY INFORMATION:

Background

The Department received a timely request on March 23, 2005, from Shanxi Zhongding in accordance with 19 CFR 351.214(c), for a new shipper review of the antidumping duty order on brake rotors from the PRC, which has an April anniversary month. In response to the Department's April 14, 2005, request, Shanxi Zhongding provided supplemental information on April 29, 2005.

Shanxi Zhongding identified itself as the producer of the brake rotors it exports. As required by 19 CFR 351.214(b)(2)(i) and (iii)(A), Shanxi Zhongding has certified that it did not export brake rotors to the United States during the period of investigation (“POI”), and that it has never been affiliated with any exporter or producer which did export brake rotors during the POI (see Shanxi Zhongding's March 23, 2005, submission). Shanxi Zhongding has further certified that its export activities are not controlled by the central government of the PRC, satisfying the requirements of 19 CFR 351.214(b)(2)(iii)(B). Pursuant to 19 CFR 351.214(b)(2)(iv)(A), Shanxi Zhongding provided the date of the first sale to an unaffiliated customer in the United States. Shanxi Zhongding submitted documentation establishing the date on which it first shipped the subject merchandise to the United States and the volume and date of entry of that shipment.

In accordance with section 751(a)(2)(B) of the Tariff Act of 1930, as amended (“the Act”), and 19 CFR 351.214(b), and based on our analysis of the information and documentation provided with the new shipper review request, as well as our analysis of proprietary import data from U.S. Customs and Border Protection (“CBP”), we find that Shanxi Zhongding has met the requirements for the Department to initiate a new shipper review (for more details, see New Shipper Initiation Checklist for Shanxi Zhongding). Therefore, we are initiating a new shipper review for Shanxi Zhongding.

In cases involving non-market economies, it is the Department's normal practice to require that a company seeking to establish eligibility for an antidumping duty rate separate from the country-wide rate provide de jure and de facto evidence of an absence of government control over the company's export activities (see Natural Bristle Paintbrushes and Brush Heads from the People's Republic of China, 68 FR 57875 (October 7, 2003)). Accordingly, we will issue a questionnaire to Shanxi Zhongding (including a complete separate rates section), allowing approximately 37 days for response. If the response from Shanxi Zhongding provides sufficient indication that it is not subject to either de jure or de facto government control with respect to its exports of brake rotors, the review will proceed. If, on the other hand, the respondent does not demonstrate its eligibility for a separate rate, then it will be deemed to be affiliated with other companies that exported during the POI and not entitled to a separate rate, and the review of that respondent will be rescinded.

Initiation of Review

In accordance with section 751(a)(2)(B)(ii) of the Act and 19 CFR 351.214(d)(1), we are initiating a new shipper review of the antidumping duty order on brake rotors from the PRC. Normally, we would issue the preliminary results of this review not later than 180 days after the date on which the review is initiated. However, on April 29, 2005, Shanxi Zhongding agreed to waive the time limits in order that the Department, pursuant to 19 CFR 351.214(j)(3), may conduct this review concurrent with the eighth administrative review of this order for the period April 1, 2004-March 31, 2005, which is being conducted pursuant to section 751(a)(1) of the Act. Therefore, we intend to issue the preliminary results of this review not later than 245 days after the last day of the anniversary month.

Antidumping duty new shipper review | Period to be reviewed
PRC: Brake Rotors, A-570-846: Shanxi Zhongding Auto Parts Co., Ltd | 04/01/04-03/31/05

We will instruct CBP to allow, at the option of the importer, the posting, until the completion of the review, of a bond or security in lieu of a cash deposit for each entry of the subject merchandise from Shanxi Zhongding. This action is in accordance with section 751(a)(2)(B)(iii) of the Act, and 19 CFR 351.214(e). Because Shanxi Zhongding has certified that it both produces and exports the subject merchandise, the sale of which was the basis for its new shipper review request, we will apply the bonding privilege only to entries of subject merchandise for which it is both the producer and exporter.

Interested parties that need access to proprietary information in this new shipper review should submit applications for disclosure under administrative protective order in accordance with 19 CFR 351.305 and 351.306.

This initiation and notice are in accordance with section 751(a)(2)(B) of the Act and 19 CFR 351.214(d).

Dated: May 23, 2005.
Barbara E. Tillman,
Acting Deputy Assistant Secretary for Import Administration.

[FR Doc. E5-2705 Filed 5-26-05; 8:45 am]

BILLING CODE 3510-DS-P